DEPARTMENT OF ENERGY

Federal Energy Regulatory Commission

[Docket No. RP05-183-000]

Cheyenne Plains Gas Pipeline Company, L.L.C.; Notice of Limited Case-Specific Waiver

February 23, 2005.

Take notice that on February 14, 2005, Cheyenne Plains Gas Pipeline Company, L.LC. (Cheyenne Plains) tendered for filing a petition for limited, case-specific waiver and request for expedited consideration.

Cheyenne Plains states that it has received a request from ConocoPhillips for the assignment of its transportation service agreement to parties that are purchasing the natural gas production assets which supported the contract for transportation capacity on Cheyenne Plains. Cheyenne Plains states that in connection with that request, it is requesting a very limited waiver of the provisions of Cheyenne Plains' tariff which provide that an assignment of capacity is permissible only to a person, firm or corporation acquiring all, or substantially all of the natural gas business of the shipper (Article 15 of the General Terms and Conditions) or, alternatively, a waiver of the provisions of the tariff which require that a prearranged release of capacity must be posted for competitive bidding in an open season (section 28.6 of the General Terms and Conditions).

Cheyenne Plains states that copies of the filing are being served upon all shippers on Cheyenne Plains's system and interested state regulatory commission.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on March 4, 2005.

Magalie R. Salas,
Secretary.

[FR Doc. E5-815 Filed 2-28-05; 8:45 am]

BILLING CODE 6717-01-P